DEPARTMENT OF HEALTH AND HUMAN SERVICES

Centers for Disease Control and Prevention

[Program Announcement 00084]

Notice of Availability of Funds; Grant for School-Based Injury Prevention Program

A. Purpose

The Centers for Disease Control and Prevention (CDC) announces the availability of fiscal year 2000 funds for a grant for a school-based injury prevention program in pre-schools and elementary schools. CDC is committed to achieving the health promotion and disease prevention objectives of “Healthy People 2010,” a national activity to reduce morbidity and mortality and improve the quality of life. This announcement is related to the focus area of Injury and Violence Prevention. For the conference copy of “Healthy People 2010”, visit the Internet site: <http://www.health.gov/healthypeople>.

The purpose of the program is to implement and evaluate a school-based injury prevention program that teaches children pre-school to fifth grade the skills necessary to protect themselves and their families by reacting in a calm, educated manner when confronted with a life safety event or fire hazard.

B. Eligible Applicants

Assistance will be provided only to the City of Waterloo, Iowa. No other applications are solicited. The grant awarded to the City of Waterloo, Iowa is mandated by the FY-2000 Injury Appropriation Conference Report.

Note: Public Law 104-65 states that an organization described in section 501(c)(4) of the Internal Revenue Code of 1986 that engages in lobbying activities is not eligible to receive Federal funds constituting an award, grant, cooperative agreement, contract, loan, or any other form.

C. Availability of Funds

Approximately $150,000 is available in FY 2000 to fund one award. It is expected that the average award will begin on or about September 30, 2000, and will be made for a 12-month budget period within a project period of up to 3 years. Funding estimates may change.

Continuation award within an approved project period will be made on the basis of satisfactory progress as evidenced by required reports and the availability of funds.

D. Program Requirements

In conducting the activities to achieve the purpose of this program, the recipient will be responsible for the following activities:

1. Implement an extensive injury prevention educational program that targets children in pre-schools (including Head Start), elementary schools, and after school clubs, using the Fire P.A.L.S. (Prevent Accidents, Live Safe) and Learn Not To Burn Fire Prevention Program curricula.

2. Prepare materials to address the following types of injuries: fire safety, pedestrian safety, bicycle safety, accidental poisoning, water safety, outdoor recreation safety, and basic first aid.

3. Develop collaborative relationships with local organizations and agencies that work directly with the target population in other venues, and who provide insight to the program about educational methodologies and behavioral change theory.

4. Conduct training for the instructors who administer the safety curriculum, and evaluate their performance.

5. Develop and implement a detailed evaluation plan that documents process, impact, and outcome measures; and assess the students' knowledge of safety principles, as well as their personal safety behaviors, through pre and post tests on the educational materials.

6. Conduct an analysis of the cost-effectiveness of the school educational program.

7. Compile, and disseminate results from the program.

8. Identify opportunities to expand the school-based injury prevention program to additional schools incorporating lessons learned from earlier implementation efforts.

E. Application Content

Use the information in the Program Requirements, Other Requirements, and Evaluation Criteria sections to develop the application content. Your application will be evaluated on the criteria listed, so it is important to follow them in laying out your program plan. The narrative should be no more than 20 double-spaced pages, printed on one side, with one inch margins, and no smaller than 12 point font. Number each page consecutively and provide a complete table of contents. The entire application with appendices should be no longer than 70 pages total. The application must include a one-page abstract and summary of the proposed effort.

F. Submission and Deadline

Application

Submit the original and two copies of PHS 5161-1 (OMB Number 0925-0001). Forms are in the application kit. On or before July 10, 2000, submit the application to the Grants Management Specialist identified in the “Where To Obtain Additional Information” Section of this announcement.

G. Evaluation Criteria

The application will be evaluated individually against the following criteria by an independent objective review group appointed by CDC.

1. Background and Need (15 Percent)

The extent to which the applicant justifies the need for a safety education program by presenting data that describes the magnitude of the injury problems in Waterloo, especially related to the topics to be included in the program. The extent to which the applicant identifies the need for such efforts in the targeted schools and community after-school programs. The extent to which the applicant presents an understanding of the need for an injury prevention education program in pre-schools and elementary schools. The extent to which the applicant details previous injury prevention and safety educational efforts in the Waterloo area, especially among the target population.

2. Goals, Objectives, and Methods (25 Percent)

The extent to which the applicant provides a detailed description of all proposed activities and collaboration needed to achieve the specific, time-framed and measurable objectives and the overall program goal(s). The extent to which the applicant identifies a theoretical basis for the behavior change program and describes how barriers will be identified and resolved. The extent to which the applicant provides a reasonable logically sequenced and complete schedule for implementing all activities. The extent to which position descriptions, lines of command, and collaborations are appropriate to accomplishing the program goal(s) and objectives.

3. Evaluation (15 Percent)

The extent to which the proposed evaluation plan is detailed and capable of documenting program process, impact and outcome measures through pre and post testing of students.

4. Collaboration (15 Percent)

The extent to which the applicant provides a description of the relationships between the program and school districts, community organizations, public health agencies, and other partners collaborating to implement and evaluate the program. The extent to which the applicant provides letters of commitment from each outside entity documenting their willingness, skills, and capacities to fulfill their specific roles and responsibilities.

5. Staff and Resources (30 Percent)

The extent to which the applicant can provide adequate facilities, staff and/or collaborators, including a full-time coordinator and resources to accomplish the proposed goal(s) and objectives during the project period. The extent to which the applicant demonstrates staff and/or collaborator availability, expertise, previous experience, and capacity to perform the undertaking successfully. Extent to which the applicant demonstrates prior experience in this area, especially the ability to work with community partners, and describes the likely impact of their activities on this problem. The extent to which current and past safety educational activities of the Waterloo Fire Rescue are described, as well as demonstration of their current capacity to conduct the safety education program.

Budget and Justification (Not Scored)

The extent to which the applicant provides a detailed budget and narrative justification consistent with the stated objectives and planned program activities.

H. Other Requirements

Technical Reporting Requirements

Provide CDC with original and plus copies of:

1. Semi-annual progress reports;

2. Financial status report, no more than 90 days after the end of the budget period; and

3. Final financial and performance reports, no more than 90 days after the end of the project period.

Send all reports to the Grants Management Specialist identified in the “Where to Obtain Additional Information” Section of this announcement.

The following additional requirements are applicable to this program. For a complete description of each, see Attachment I.

AR-7—Executive Order 12372 Review

AR-8—Public Health System Reporting Requirements

AR-10—Smoke-Free Workplace Requirements

AR-11—Healthy People 2010

AR-12—Lobbying Restrictions

AR-13—Prohibition on Use of CDC Funds for Certain Gun Control Activities

I. Authority and Catalog of Federal Domestic Assistance Number

This program is authorized under section 301(a), 317(k)(2), 391, 392, 394, and 394A [42 U.S.C. 241(a), 247b(k)(2), 280b, 280b-1, 280b-2, 280b-3] of the Public Health Service Act, as amended. The Catalog of Federal Domestic Assistance number is 93.136.

J. Where To Obtain Additional Information

This and other CDC announcements can be found on the CDC home page on the Internet: http://www.cdc.gov. If you have questions after reviewing the content of all documents, business management assistance may be obtained from: Sheryl L. Heard, Grants Management Specialist Grants Management Branch, Procurement and Grants Office, Announcement 00084, Centers for Disease Control and Prevention (CDC), 2920 Brandywine Road, Suite 3000, Atlanta, GA 30341-4146, Telephone (404) 488-2723, Email: slh3@cdc.gov

For program technical assistance, contact: Tim Groza, MPA, Centers for Disease Control and Prevention, National Center for Injury Prevention and Control, 4770 Buford Highway, N.E., Mailstop K63, Atlanta, GA 30341-3724, Telephone (770) 488-4676, Email: tgroza@cdc.gov.

To order a copy of CDC's Demonstrating Your Program's Worth: A Primer on Evaluation for Programs to Prevent Unintentional Injury go to: www.cdc.gov/ncipc/pub-res/demonstr.htm.

Dated: April 21, 2000.
John L. Williams,
Director, Procurement and Grants Office Centers for Disease Control, and Prevention (CDC).

[FR Doc. 00-10486 Filed 4-26-00; 8:45 am]

BILLING CODE 4163-18-P